DEPARTMENT OF COMMERCE

National Oceanic and Atmospheric Administration

Draft Revised Management Plan for the Rookery Bay National Estuarine Research Reserve

AGENCY: Office for Coastal Management, National Ocean Service, National Oceanic and Atmospheric Administration, U.S. Department of Commerce.

ACTION: Request for comments on draft revised management plan.

SUMMARY: The National Oceanic and Atmospheric Administration (NOAA) is soliciting comments from the public regarding a proposed revision of the management plan for the Rookery Bay National Estuarine Research Reserve. A management plan provides a framework for the direction and timing of a reserve's programs; allows reserve managers to assess a reserve's success in meeting its goals and to identify any necessary changes in direction; and is used to guide programmatic evaluations of the reserve. Plan revisions are required of each reserve in the National Estuarine Research Reserve System at least every five years. This revised plan is intended to replace the plan approved in 2012.

DATES: Comments are due by April 13, 2022.

ADDRESSES: The draft revised management plan is available at: http://publicfiles.dep.state.fl.us/CAMA/plans/Rookery/Bay/NERR/Mgmt/Plan/DRAFT/220127.pdf, or by emailing Matt Chasse of NOAA's Office for Coastal Management at matt.chasse@noaa.gov.

Submit comments by the following method:

Electronic Submission: Submit all electronic public comments by email to matt.chasse@noaa.gov. Include “Comments on the draft Rookery Bay Management Plan” in the subject line of the message.

FOR FURTHER INFORMATION CONTACT: Matt Chasse of NOAA's Office for Coastal Management, by email at matt.chasse@noaa.gov, phone at 240-628-5417.

SUPPLEMENTARY INFORMATION: Pursuant to 15 CFR 921.33(c), a state must revise the management plan for the research reserve at least every five years. If approved by NOAA, the Rookery Bay Reserve's revised plan will replace the plan previously approved in 2012.

The draft revised management plan outlines the reserve's strategic goals and objectives; administrative structure; programs for conducting research and monitoring, education, and training; resource protection, restoration, volunteer, and communications plans; prescribed fire and invasive species plans; consideration for future land acquisition; and facility development to support reserve operations. In particular, this draft revised management plan focuses on building upon past successes and accomplishments. Research and monitoring will focus on habitat mapping, wildlife communities, resource management and restoration, coastal change and resilience, and ecosystem services. Reserve education programming will focus on informed community and individual action as related to ecosystems, human connections, resilience, and outreach. The reserve is also planning on enhancing the use of technology in education programming and on building a robust interpretation program with volunteer staff. Coastal training will continue offering programs to professional audiences and conduct an updated needs assessment. The plan also includes the reserve monitoring the health of fish and bird communities, invasive species control efforts, and the use of prescribed fire as a management tool. In addition, the reserve is expecting to expand its strategic partnership with Florida International University.

Since 2012, the reserve has developed a map of reserve habitats, installed surface elevation tables in the Henderson Creek area to support the sentinel site program, and continued a host of habitat and species monitoring programs. The reserve has conducted projects that assess and value freshwater within the reserve supporting the Collier County watershed improvement plans and mangrove habitat restoration efforts. A new partnership with Florida International University is supporting reserve staffing needs and various research projects. Mangrove and research symposiums hosted by the reserve highlighted the diversity of reserve activities and partnerships. Post Hurricane Irma, the reserve has rebuilt the Ten Thousand Islands field station and other infrastructure to be more resilient to future extreme storm impacts. Furthermore, no reserve boundary changes are incorporated into the revised management plan. The revised management plan, once approved, would serve as the guiding document for the 110,000-acre research reserve for the next five years.

NOAA's Office for Coastal Management analyzes the environmental impacts of the proposed approval of this draft revised management plan in accordance with section 102(2)(C) of the National Environmental Policy Act of 1969, as amended, 42 U.S.C. 4332(2)(C), and the Council on Environmental Quality Regulations for Implementing the Procedural Provisions of NEPA (40 CFR 1500-1508). The public is invited to comment on the draft revised management plan. NOAA will take these comments into consideration in deciding whether to approve the draft revised management plan in whole or in part.

(Authority: 16 U.S.C. 1451 et seq.; 15 CFR 921.33)

Keelin S. Kuipers,
Deputy Director, Office for Coastal Management, National Ocean Service, National Oceanic and Atmospheric Administration.

[FR Doc. 2022-05277 Filed 3-11-22; 8:45 am]

BILLING CODE 3510-NK22-P